DEPARTMENT OF COMMERCE

National Oceanic and Atmospheric Administration

RIN 0648- XC184

Marine Mammals; File No. 17403

AGENCY: National Marine Fisheries Service (NMFS), National Oceanic and Atmospheric Administration (NOAA), Commerce.

ACTION: Notice; issuance of permit.

SUMMARY: Notice is hereby given that a permit has been issued to Robert Pilley, Leighside, Bridge Road, Leighwoods, Bristol, BS8 3PB, United Kingdom, to conduct commercial/educational photography on bottlenose dolphins (Tursiops truncatus).

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Colette Cairns or Carrie Hubard, (301) 427-8401.

SUPPLEMENTARY INFORMATION: On August 24, 2012, notice was published in the Federal Register (77 FR 51519) that a request for a commercial/educational photography permit to take bottlenose dolphins had been submitted by the above-named applicant. The requested permit has been issued under the authority of the Marine Mammal Protection Act of 1972, as amended (16 U.S.C. 1361 et seq.), and the regulations governing the taking and importing of marine mammals (50 CFR part 216). Section 104(c)(6) provides for photography for educational or commercial purposes involving non-endangered and non-threatened marine mammals in the wild.

Mr. Pilley is authorized to film bottlenose dolphin strand feeding events in the estuaries and creeks of Bull Creek and around Hilton Head, South Carolina, and mud plume feeding events in the waters of the Florida Keys. Filmmakers may use filming platforms such as: a static, remotely-operated camera placed on the mudflats, a radio-controlled camera helicopter, and a radio-controlled camera boat. For both locations combined, up to 196 dolphins annually may be approached and filmed. Filming may occur over 14 days in each location. Footage would be used in two wildlife education documentaries: “Earthflight 3D”, and “Dolphins-Spy in the Pod”, both for the British Broadcasting Corporation and Discovery Channel. The permit will expire five years from the date of issuance.

In compliance with the National Environmental Policy Act of 1969 (42 U.S.C. 4321 et seq.), a final determination has been made that the activity proposed is categorically excluded from the requirement to prepare an environmental assessment or environmental impact statement.

Dated: October 1, 2012.
P. Michael Payne,
Chief, Permits and Conservation Division, Office of Protected Resources, National Marine Fisheries Service.

[FR Doc. 2012-24697 Filed 10-4-12; 8:45 am]

BILLING CODE 3510-22-P